DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a)) with respect to whom the Secretary received information during the quarter ending June 30, 2009.

Last name | First name | Middle name/initials
Christensen | Roald | Eric
Hall | Andrew | Don
Ogg | Clint | De'Wayne
Kampf | Laura | Amelia
Evans | Christopher | David
Chew | Linda | Mun-Jong
Chao | Shao-Hua |
Gilbert | Barrie | Catherine
O'Reilly | John | Harald-Thomas
Goodson | Deanna | Lou
Clay-Remson | Alverne | M
Kennedy | Cynthia | Gayle
Fu | Estefania | Hung
Sandy | Sum Kay |
Cuaron | Alfonso |

Dated: July 10, 2009.
Angie Kaminski,
Manager Team 103, Examinations Operations—Philadelphia Compliance Services.

[FR Doc. E9-17212 Filed 7-20-09; 8:45 am]

BILLING CODE 4830-01-P